DEPARTMENT OF THE INTERIOR

National Park Service

Availability of Record of Decision for the General Management Plan for Cane River Creole National Historical Park, LA

AGENCY: National Park Service, Interior.

ACTION: Notice of availability of the Record of Decision for the Final General Management Plan and Environmental Impact Statement, Cane River Creole National Historical Park, Natchitoches Parish, Louisiana.

SUMMARY: The U.S. Department of the Interior's National Park Service signed a Record of Decision (March 29, 2001) on a General Management Plan for Cane River Creole National Historical Park.

The National Park Service will implement Alternative 1, the preferred alternative, as described in the Final General Management Plan/Environmental Impact Statement. Cane River Creole National Historical Park will persevere and rehabilitate the cultural landscapes, historic structures, and artifacts of the two park units, Oakland and Magnolia Plantations, to reflect the continuum of history up to about 1960. This will result in few changes to the current configuration of plantation structures or the general appearance of the landscape.

The long history of the plantations and the major cultural, social, and economic stories of Louisiana plantation lifeways and agriculture that they represent will be told (interpreted) to the public. Based on research and documentation, accounts of the lives and lifestyles of the people who lived and worked at the plantations will be shared through media and programs.

The park will provide access, parking, trails, and basic visitor services at each unit. Development at Oakland Plantation will include an access road and parking area for cars and buses. Visitors will be able to explore the site using an accessible trail system. An outdoor pavilion-style shelter will be constructed and serve as an entry portal for that site, providing visitor information and restrooms. Eventually a park maintenance facility will be constructed either offsite near Oakland or, if an offsite location cannot be found or is infeasible, then a facility will be constructed onsite in the development management area. Development at Magnolia Plantation will include parking for cars and buses, with the goal of limiting bus parking onsite and establishing additional offsite bus parking near Magnolia. An accessible trail system will be developed and will link the major resources of the site.

The parks's historic features will be interpreted, with several structures being adapted either to provide visitors interior access and services or to accommodate park management needs. At Oakland Plantation, the main plantation hours will be furnished, staffed, and interpreted. The plantation store will include a cooperating association sales outlet and interpretive exhibits. Visitors will also be able to access the interior of the mule barn, overseer's house, and quarters. Park offices will be located in the doctor's house and the seed house will be adapted initially for maintenance activities, to be converted later to educational space for groups. At Magnolia, the plantation store will be staffed and provide visitor information and restrooms. Controlled access to the gin barn's main floor will be provided. The interiors of two of the quarters will be restored for visitor access and interpretation and visitors will also have access to the interior of the overseer's house/slave hospital.

To provide the knowledge base needed to fully implement the plan, the park will engage in additional study, data collection and resource monitoring, especially of archeological and ethnographic resources, historic structures and furnishings, cultural landscapes, and visitor uses. The National Park Service will work in partnership with the Cane River National Heritage Area Commission and others to develop a joint regional visitor center and headquarters in the Natchitoches/Cane River area, outside the downtown Natchitoches historic landmark district. This facility will be important for orienting the public to the area's resources and will provide a variety of interpretive and educational opportunities. Also, park managers will pursue the possibility of developing a joint curatorial facility, possibly as part of the joint visitor center complex. The park will work collaboratively with a variety of public and private entities to encourage and fund research, education, and preservation projects and heritage events.

FOR FURTHER INFORMATION CONTACT: Laura Soullière, Superintendent, Cane River Creole National Historical Park; 400 Rapides Drive; Natchitoches, LA 71457. Telephone: (318) 352-0383.

SUPPLEMENTARY INFORMATION: The complete Record of Decision is available on the NPS planning website at http://www.nps.gov/planning.

Dated: November 30, 2001.
Patricia A. Hooks,
Regional Director, Southeast Region.

[FR Doc. 01-30240 Filed 12-5-01; 8:45 am]

BILLING CODE 4310-70-M